DEPARTMENT OF STATE

[Public Notice 5554]

Shipping Coordinating Committee; Notice of Meeting

The Shipping Coordinating Committee (SHC) will conduct an open meeting at 10 a.m. on Tuesday, October 10, 2006, in Room 1422 of the United States Coast Guard Headquarters Building, 2100 2nd Street, SW., Washington, DC 20593-0001. The purpose of this meeting is to prepare for the Ninety-second Session of the International Maritime Organization's (IMO) Legal Committee (LEG 92) scheduled from 16-20 October 2006.

The provisional LEG 92 agenda calls for the Legal Committee to further examine the draft Wreck Removal Convention. To be addressed as well are the Provisions of Financial Security which includes a progress report on the work of the Joint IMO/ILO Ad Hoc Expert Working Group on Liability and Compensation regarding claims for Death, Personal Injury and Abandonment of Seafarers; and includes follow-up on resolutions adopted by the International Conference on the Revision of the Athens Convention relating to the Carriage of Passengers and their Luggage by Sea, 1974. The Legal Committee will review the Guidelines on fair treatment of seafarers in the event of a maritime accident. Also on the LEG 92 agenda are monitoring of the implementation of the HNS Convention, matters arising from the ninety-sixth session of the Council, and election of officers. Finally the committee will review technical cooperation activities related to maritime legislation, biennium activities within the context of the Organization's Strategic Plan, and the status of Conventions and other treaty instruments adopted as a result of the work of the Legal Committee, in addition to allotting time to address any other issues that may arise on the Legal Committee's work program.

Members of the public are invited to attend the SHC meeting up to the seating capacity of the room. To facilitate the building security process, those who plan to attend should call or send an e-mail two days before the meeting. Upon request, participating by phone may be an option. For further information please contact Captain Charles Michel or Lieutenant Commander Laurina Spolidoro, at U.S. Coast Guard, Office of Maritime and International Law (G-LMI), 2100 Second Street, SW., Washington, DC 20593-0001; e-mail Laurina.M.Spolidoro@uscg.mil, telephone (202) 372-3794; fax (202) 372-3972.

Dated: September 21, 2006.
Michael Tousley,
Executive Secretary, Shipping Coordinating Committee, Department of State.

[FR Doc. E6-15835 Filed 9-26-06; 8:45 am]

BILLING CODE 4710-09-P